DEPARTMENT OF AGRICULTURE

Submission for OMB Review; Comment Request

July 30, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: U.S. Standards for Livestock and Meat Marketing Claims, Naturally Raised Claim for Livestock and the Meat and Meat Products Derived from such Livestock.

OMB Control Number: 0581-NEW.

Summary of Collection: Section 203(c) of the Agricultural Marketing Act of 1946, as amended (7 U.S.C. 1622) directs and authorizes the Secretary of Agriculture “to develop and improve standards quality, condition, quantity, grade, packaging, and recommend and demonstrate such standards in order to encourage uniformity and consistency in commercial practices.” The Agricultural Marketing Service (AMS) is establishing a voluntary standard for a naturally raised marketing claim that livestock producers may request to have verified by USDA.

Need and Use of the Information: AMS will collect information from applicants requesting the services for the Quality Systems Verification Programs (QSVP) using Form LS-313, “Application for Service.” The QSVP is a collection of voluntary, audit-based, user-fee funded programs. This will allow applicants to have program documentation and program processes assessed by AMS auditor(s) and other USDA officials to provide validity to such naturally raised livestock claims and, in certain cases, access to markets that require AMS verification. AMS verification of a claim would be accomplished through an audit of the production process in accordance with procedures that are contained in 7 CFR part 62.

Description of Respondents: Business for profit.

Number of Respondents: 20.

Frequency of Responses: Reporting: On occasion.

Total Burden Hours: 483.

Charlene Parker,
Departmental Information Collection Clearance Officer.

[FR Doc. E9-18647 Filed 8-3-09; 8:45 am]

BILLING CODE 3410-02-P